MORRIS K. UDALL AND STEWART L. UDALL FOUNDATION

Sunshine Act Meetings

TIME AND DATE: 10:30 a.m. to 12:30 p.m., Wednesday, April 15, 2020.

PLACE: The offices of the Morris K. Udall and Stewart L. Udall Foundation, 130 South Scott Avenue, Tucson, AZ 85701.

STATUS: This meeting will be open to the public. Due to COVID-19, the Udall Foundation offices are closed to the public. Members of the public who would like to attend this meeting should contact Elizabeth Monroe at monroe@udall.gov prior to April 15 to request the teleconference connection information.

MATTERS TO BE CONSIDERED: (1) Call to Order and Chair's Remarks; (2) Executive Director's Remarks & Update on COVID-19 Impact on Udall Foundation; (3) Deputy Executive Director's Remarks & Update on Implementation of Amended Enabling Legislation; (4) Consent Agenda Approval (Minutes of the November 21, 2019, Board of Trustees Meeting; Board Reports submitted for Education Programs; Finance and Management; John S. McCain III National Center for Environmental Conflict Resolution; Native Nations Institute for Leadership, Management, and Policy; Udall Archives; and Udall Center for Studies in Public Policy; and Board takes notice of any new and updated personnel policies and internal control methodologies); (5) Finance and Internal Controls Update (6) Native Nations Institute for Leadership, Management, and Policy: Budget Session and resolution regarding Transfer of Funds to the Native Nations Institute for Leadership, Management, and Policy; (7) Board Finding regarding Use of Funds Transferred, Allocated or Set Aside to The University of Arizona for Program Purposes; and (8) Program Issues for the Board's Consideration.

CONTACT PERSON FOR MORE INFORMATION: David P. Brown, Executive Director, 130 South Scott Avenue, Tucson, AZ 85701, (520) 901-8500.

Dated: March 27, 2020.
David P. Brown,
Executive Director, Morris K. Udall and Stewart L. Udall Foundation, and Federal Register Liaison Officer.

[FR Doc. 2020-06804 Filed 3-27-20; 4:15 pm]

BILLING CODE 6820-FN-P